FEDERAL COMMUNICATIONS COMMISSION

47 CFR Part 54

[WC Docket Nos. 22-238, 11-42, 21-450; FCC 23-96; FR ID 238679]

Supporting Survivors of Domestic and Sexual Violence, Lifeline and Link Up Reform Modernization

AGENCY: Federal Communications Commission.

ACTION: Final rule; announcement of effective and compliance dates.

SUMMARY: In this document, the Federal Communications Commission (Commission) announces that the Office of Management and Budget (OMB) has approved, for a period of three years, a revision to an information collection associated with the rules for the Lifeline and Link Up Reform and Modernization contained in the Commission's Order, FCC 23-96 (Safe Connections Act Order). This document is consistent with the Safe Connections Act Order, which stated that the Commission would publish a document in the Federal Register announcing the effective date of the new information collection requirements.

DATES:

Effective date: This final rule is effective August 29, 2024.

Compliance date: Compliance with §§ 54.403(a)(4), 54.405(e)(6), 54.409(a)(3), 54.410(d)(2)(ii), 54.410(i), 54.424(a) and (b), and 54.1800(j)(1) is required by August 29, 2024.

FOR FURTHER INFORMATION CONTACT: Nicholas Page, Telecommunications Access Policy Division, Wireline Competition Bureau, (202) 418-7400 or TTY: (202) 418-0484. For additional information concerning the Paperwork Reduction Act information collection requirements contact Nicole Ongele at (202) 418-2991 or via email: Nicole.Ongele@fcc.gov.

SUPPLEMENTARY INFORMATION: The Commission submitted new information collection requirements for review and approval by OMB, as required by the Paperwork Reduction Act (PRA) of 1995, on June 10, 2024, which were approved by the OMB on August 7, 2024. The information collection requirements are contained in the Commission's Safe Connections Act Order (FCC 23-96, rel. Nov. 16, 2023), published at 88 FR 84406, on December 5, 2023. The OMB Control Number is 3060-0819. The Commission publishes this document as an announcement of the effective date of the rules that required PRA approval. If you have any comments on the burden estimates listed, or how the Commission can improve the collections and reduce any burdens caused thereby, please contact Nicole Ongele, Federal Communications Commission, 45 L Street NE, Washington, DC 20554, regarding OMB Control Number 3060-0819. Please include the OMB Control Number, 3060-0819, in your correspondence. The Commission will also accept your comments via email at PRA@fcc.gov. To request materials in accessible formats for people with disabilities (Braille, large print, electronic files, audio format), send an email to fcc504@fcc.gov or call the Consumer and Governmental Affairs Bureau at (202) 418-0530 (voice), or (202) 418-0432 (TTY).

Synopsis

As required by the Paperwork Reduction Act of 1995 (44 U.S.C. 3507), the Commission is notifying the public that it received OMB approval on August 7, 2024, for the information collection requirements contained in 47 CFR 54.403, 54.405, 54.409, 54.410, 54.424, and 54.1800, which revises §§ 54.403(a)(5), 54.405(e)(7), 54.409(a)(4), 54.410(j), 54.424(c), and 54.1800(j)(7).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0819.

The foregoing notification is required by the Paperwork Reduction Act of 1995, Public Law 104-13, October 1, 1995, and 44 U.S.C. 3507.

The total annual reporting burdens and costs for the respondents are as follows:

OMB Control Number: 3060-0819.

OMB Approval Date: August 7, 2024.

OMB Expiration Date: August 31, 2027.

Title: Bridging the Digital Divide for Low-Income Consumers, Lifeline and Link Up Reform and Modernization, Telecommunications Eligible for Universal Service Support.

Form No.: FCC Form 481, 497, 555, 5629, 5630, and 5631.

Type of Review: Revision of a currently approved collection.

Respondents: Individuals or Households; Business or other for-profit entities.

Number of Respondents and Responses: 25,110,068 respondents; 26,877,412 responses.

Estimated Time per Response: 0.0167-125 hours.

Frequency of Response: Annual, biennial, monthly, daily and on occasion reporting requirements, recordkeeping requirement and third-party disclosure requirement.

Obligation to Respond: Required to obtain or retain benefits. Statutory authority is contained in sections 1, 4(i), 5, 201, 205, 214, 219, 220, 254, 303(r), and 403 of the Communications Act of 1934, as amended, and section 706 of the Communications Act of 1996, as amended; 47 U.S.C. 151, 154(i), 155, 201, 205, 214, 219, 220, 254, 303(r), 403, and 1302.

Total Annual Burden: 6,534,382 hours.

Total Annual Cost: $937,500.

Needs and Uses: The Commission provides updates to the existing FCC Form 5629 to implement the Safe Connections Act Order, FCC 23-96, to include information for survivors suffering financial hardship about how they can qualify to receive emergency communications support from the Lifeline program. The revisions also allow survivors to document or self-certify their financial hardship status and include a new question on survivor communication preferences. Additionally, the Commission adds a new requirement for Eligible Telecommunications Carriers (ETCs) seeking to relinquish their ETC designation.

The revisions to this collection reflect the notice and reporting requirements adopted by the Commission in the SCA Order.

List of Subjects in 47 CFR Part 54

Communications, Communications common carriers, Privacy, Telecommunications, Reporting and recordkeeping requirements.

Federal Communications Commission.

Marlene Dortch,
Secretary.

Final Rules

For the reasons discussed in the preamble, the Federal Communications Commission amends 47 CFR part 54 to read as follows:

PART 54—UNIVERSAL SERVICE

1. The authority citation for part 54 continues to read as follows:

Authority: 47 U.S.C. 151, 154(i), 155, 201, 205, 214, 219, 220, 229, 254, 303(r), 403, 1004, 1302, 1601-1609, and 1752, unless otherwise noted.

§ 54.403 [Amended]

2. Amend § 54.403 by removing paragraph (a)(5).

§ 54.405 [Amended]

3. Amend § 54.405 by removing paragraph (e)(7);

§ 54.409 [Amended]

4. Amend § 54.409 by removing paragraph (a)(4).

§ 54.410 [Amended]

5. Amend § 54.410 by removing paragraph (j).

§ 54.424 [Amended]

6. Amend § 54.424 by removing paragraph (c).

§ 54.1800 [Amended]

7. Amend § 54.1800 by removing paragraph (j)(7).

[FR Doc. 2024-18938 Filed 8-28-24; 8:45 am]

BILLING CODE 6712-01-P